DEPARTMENT OF HEALTH AND HUMAN SERVICES

Health Resources and Services Administration

Statement of Organization, Functions and Delegations of Authority

This notice amends Part R of the Statement of Organization, Functions and Delegations of Authority of HHS, HRSA (60 FR 56605, as amended November 6, 1995; as last amended at 81 FR 52450-52451 dated August 8, 2016).

This reorganization: (1) Establishes the Executive Secretariat (RB0) within the Office of the Chief Operating Officer (RB); (2) transfers the functions of the Division of the Executive Secretariat (RB41) from the Office of Administrative Management (RB4) to the newly established Executive Secretariat (RB0); (3) abolishes the Division of Executive Secretariat (RB41) within the Office of Administrative Management (RB4); (4) renames the Office of Budget (RB1) to the Office of Budget and Finance (RB1); (5) establishes the Division of Financial Policy, Analysis and Control (RB14) within the Office of Budget and Finance (RB1); (6) transfers the functions of the Office of Financial Policy and Controls (RB2) to the newly established Division of Financial Policy, Analysis and Control, within the Office of Budget and Finance (RB1); (7) abolishes the Office of Financial Policy and Controls (RB2); (8) establishes the Division of Procurement Management (RB3D) within the Office of Acquisitions Management and Policy (RB3); (9) transfers the Division of Policy and Data Analysis (RB33) and Division of Financial Support Services (RB34) functions to the newly established Division of Procurement Management (RB3D); and (10) abolishes the Division of Policy and Data Analysis (RB33) and the Division of Financial Support Services (RB34). The new chapter reads as follows:

Chapter RB—Office of Operations

Section RB.10 Organization

Delete the organization for the Office of Operations (RB) in its entirety and replace with the following:

The Office of Operations (RB) is headed by the Chief Operating Officer, who reports directly to the Administrator, Health Resources and Services Administration. The Office of Operations includes the following components:

(1) Office of the Chief Operating Officer (RB);

(2) Executive Secretariat (RB0);

(2) Office of Budget and Finance (RB1);

(3) Office of Acquisitions Management and Policy (RB3);

(4) Office of Administrative Management (RB4);

(5) Office of Information Technology (RB5); and

(6) Office of Human Resources (RB6).

Section RB.20 Functions

Delete the functional statement for the Office of the Chief Operating Officer (RB); Office of Budget and Finance (RB1); Office of Acquisitions Management and Policy (RB3); Office of Administrative Management (RB4); replace in their entirety.

Office of Operations (RB)

Office of the Chief Operating Officer (RB)

(1) Provides leadership for operational activities, interaction, and execution of initiatives across HRSA; (2) plans, organizes and manages annual and multi-year budgets and resources and assures that the conduct of administrative and financial management activities effectively support program operations; (3) provides an array of HRSA-wide services including Executive Secretariat, information technology, procurement management, facilities, human resources, workforce management, and budget execution and formulation; (4) maintains overall responsibility for policies, procedures, and monitoring of internal controls and systems related to payment and disbursement activities; (5) provides management expertise, staff advice, and support to the Administrator in program and policy formulation and execution; (6) provides leadership in the development, review and implementation of policies and procedures to promote improved information technology management capabilities and best practices; (7) coordinates workforce issues and works closely with the Department on recruitment and training issues; and (8) administers functions of the Chief Financial Officer.

Executive Secretariat (RB0)

The Executive Secretariat provides leadership, management and guidance HRSA-wide for correspondence, policy and information coordination, Federal Advisory Committees, and Freedom of Information Act requests. Specifically, the Executive Secretariat: (1) Advises the Administrator and other key agency officials on cross-cutting policy issues and assists in their identification and resolution; (2) establishes and maintains a tracking system that provide HRSA-wide coordination and clearance of policies, regulations, and guidelines; (3) plans, organizes, and directs the preparation and management of written correspondence; (4) manages the review process for HRSA-drafted reports to Congress; (5) coordinates the preparation of proposed rules and regulations relating to HRSA programs and coordinates review and comment on other Department regulations and policy directives that may affect HRSA programs; (6) oversees and coordinates HRSA's federal advisory committee management activities; (7) coordinates the review and publication of Federal Register notices; and (8) coordinates the implementation of the Freedom of Information Act (FOIA) for the agency.

Office of Budget and Finance (RB1)

(1) Reviews funds control measures to assure that no program, project or activity of HRSA obligates or disburses funds in excess of appropriations or obligates funds in violation of authorized purposes; (2) provides advice and assistance to senior HRSA management to verify the accuracy, validity, and technical treatment of budgetary data in forms, schedules, and reports, or the legality and propriety of using funds for specific purposes; (3) maintains primary liaison to expedite the flow of financial management work and materials within HRSA and/or between agency components and HHS, Office of Management and Budget (OMB), and congressional staff; (4) provides overall financial-based analyses and fiduciary review for senior HRSA management in order to assure appropriate workforce planning, funds control guidance, and analytical technical assistance in all phases of the budgetary process; and (5) develops the long-range program and financial plan for HRSA in collaboration with the HRSA Office of Planning, Analysis and Evaluation (OPAE), and other administrative HRSA components.

Division of Budget Formulation and Presentation (RB11)

(1) Manages and coordinates development of the Administration's budget for HRSA from submissions prepared by Bureau/Office contacts; (2) formulates the total HRSA financial plan for the Administrator, and evaluates and assures total HRSA budget requests conform to current Administration policy and economic assumptions; (3) coordinates performance measures pursuant to the Government Performance and Results Act (GPRA) Modernization Act with budget proposals; (4) represents, supports, and defends the HRSA budget in meetings/hearings before the Office of the Secretary, OMB, and the Congress; (5) provides policy direction and guidance for the preparation and consolidation of the budget and its transmittal to OMB through information technology; (6) analyzes proposed legislation and subsequent congressional action for budgetary implications; (7) prepares periodic summary analysis and impact statements on budget allowances and applicable congressional actions; (8) develops analyses of proposed budget estimates and supporting narrative through the use of available financial data reporting systems for senior HRSA management; (9) maintains liaison with the Office of the Secretary and the OMB, the Government Accountability Office, other Government organizations, and the Congress on HRSA's financial management matters; (10) consults with HRSA's OPAE to provide guidance and advice in implementing performance systems, including Key Performance Indicators, and HRSA's GPRA Modernization Act program; (11) collaborates with other parts of HRSA in the development and implementation of long-range program and financing plans; (12) completes chain-of-command requirements in timing and reporting of cleared information to parties outside the Executive Branch (i.e., Congress, media, public); and (13) appropriately safeguards all embargoed information and all draft materials to maintain integrity of data and secure work information.

Division of Budget Execution and Management (RB12)

(1) Provides budget policy interpretation, management guidance, and direction for senior HRSA management; (2) conducts the HRSA budget control process in conformance with statutory requirements and OMB guidelines; (3) approves program spending plans and obtains apportionment of funds from the OMB; (4) establishes and maintains a system of budgetary fund and position control; (5) provides senior HRSA management status and activity reports on total funds control and position control activities throughout the fiscal year; (6) administers and reviews requests for apportionments and allotments; (7) reviews, controls, and reports obligations and expenditures through central monitoring and advice to Bureau/Office management officials; (8) verifies funds available to Central HRSA Offices, and the propriety of using appropriated and non-appropriated funds for the requested purposes for which the funds have been proposed for expenditure through commitment accounting; (9) develops and interprets budgetary policies and practices for operating units of HRSA including analysis and approval for all equipment, supplies, travel, transportation and services procured by HRSA, and ensures the validity, legality, and proper accounting treatment of expenditures processed through the central HHS Accounting System; (10) controls the processes of allotment, allocation, obligation, and expenditure of funds in approved annual operating plans for all HRSA accounts; (11) monitors Bureau/Office obligations in current allocations, disbursements and outlays, and notifies Bureaus/Offices of potential deficiencies in allotments and allowances for specific periods for corrective action; (12) maintains primary liaison between HRSA and the Program Support Center's Financial Operations Center for accounting functions; (13) maintains tracking of inputs into HRSA account for the central HHS accounting system, which includes the examination, verification, and maintenance of accounts and accounting data within the system; (14) provides standardized accounting codes, performs technical audit functions, develops and/or installs revised accounting procedures, and serves as primary administrator of systems accounting functions within HRSA; (15) provides appropriate tracking of all “fee-for-service” charges to HRSA from other HHS components and outside entities; and (16) manages the centralized HRSA pay management for allocation of staff and position management.

Division of Program Budget Services (RB13)

(1) Provides direct budget execution services to assigned program components working with appropriate program management officials; (2) coordinates budget services through formalized and integrated communications with program management officials or their designees to ensure effective and efficient delivery of services to its customers; (3) supports the formulation of annual budgets, develops spending plans, and manages budget activities ensuring funds are expended in accordance with congressional intent; (4) provides reports on program activities to Budget Execution and Management Staff for control of commitment accounting within allotments and allowances and for position control activities; (5) analyzes and maintains reports on disbursements and changing obligations within closed year accounts for assigned program components; and (6) assures all open documents are closed without outstanding balances.

Division of Financial Policy, Analysis and Control (RB14)

(1) Defines the control environment (e.g., programs, operations, or financial reporting) with senior HRSA management; (2) maintains overall responsibility for policies, procedures, monitoring of internal controls and systems related to payment and disbursement activities; (3) conducts analyses to inform senior HRSA management of relevant financial information, potential problems/solutions, and information on payment, travel, and disbursement issues; (4) reviews policy documents, Inter/Intra-Agency Agreements, and HHS materials for financial consistency with internal controls and disbursement requirements; (5) conducts analyses of management and operational problems in terms of financial management information; (6) analyzes the design, implementation, enhancement, and documentation of automated financial systems within the Office of Operations to assist management in operating more efficiently; (7) provides consultative services to systems implementers within HRSA on a broad range of issues including policy, data integrity, systems integration, and interfacing issues as they relate to financial management systems; (8) provides technical support and assistance to operating components and users in the integration of financial systems and the access and interpretation of financial system data; (9) analyzes and offers recommendations concerning the costs and benefits of alternative methods of financing agency programs and administrative operations; (10) prepares long-range resource projections for the acquisition and use of funds to support specific agency projects and programs; (11) facilitates the review of HRSA audit activities in compliance with the Chief Financial Officer's Act of 1990; and (12) provides support to the Annual Financial Statements by monitoring statement of net cost, preparing management representation correspondence, cycle memoranda, and serves as audit liaison to the combined HHS Combined Financial Statement.

Office of Acquisitions Management and Policy (RB3)

(1) Provides leadership in the planning, development, and implementation of policies and procedures for contracts; (2) exercises the sole responsibility within HRSA for the award and management of contracts; (3) provides advice and consultation of interpretation and application of HHS policies and procedures governing contracts management; (4) coordinates HRSA positions and actions with respect to the audit of contracts; (5) maintains liaison directly with or through Bureaus/Offices with contractors, other organizations, and various components of the department; (6) provides leadership, guidance, and advice on the promotion of the activities in HRSA relating to procurement and material management governed by the Small Business Act of 1958, Executive Order 11625, other statutes, and national policy directives for augmenting the role of private industry and small and minority businesses as sources of supply to the Government and Government contractors; (7) plans, directs, and coordinates HRSA's strategic sourcing program; and (8) oversees the administration of the Federal Certification Program for HRSA's Contracting Officer's-Representatives, contracting acquisition professionals, and Program and Project Managers.

Division of Enterprise Information Technology Services (RB3A)

(1) Provides comprehensive acquisition services including planning, soliciting, negotiating, awarding, and administering simplified and negotiated procurement actions tailored to the functions of its assigned Bureau/Offices; (2) ensures compliance with federal laws and regulations, departmental and HRSA guidelines, policies and procedures; (3) provides professional, in-depth advice and consultation, customized to the Bureaus/Offices, regarding the appropriate contract vehicles and the various phases of the acquisition cycle; (4) conducts pre-award reviews of proposed contracts that exceed the requirements called for in the federal and departmental acquisition regulations in conjunction with the other contract services divisions; (5) plans and coordinates acquisition reviews of contracting activities within HRSA headquarters and the field components; and (6) responds to congressional inquiries and requests for acquisition information from other federal agencies and non-federal sources.

Division of Primary Care and Health Infrastructure Services (RB3B)

(1) Provides comprehensive acquisition services including planning, soliciting, negotiating, awarding, and administering simplified and negotiated procurement actions tailored to the functions of its assigned Bureau/Offices; (2) ensures compliance with federal laws and regulations, departmental and HRSA guidelines, policies and procedures; (3) provides professional, in-depth advice and consultation, customized to the Bureaus/Offices, regarding the appropriate contract vehicles and the various phases of the acquisition cycle; (4) conducts pre-award reviews of proposed contracts that exceed the requirements called for in the federal and departmental acquisition regulations in conjunction with the other contract services divisions; (5) plans and coordinates acquisition reviews of contracting activities within HRSA headquarters and the field components; and (6) responds to congressional inquiries and requests for acquisition information from other federal agencies and non-federal sources.

Division of Population-Based and Enterprise Services (RB3C)

(1) Provides comprehensive acquisition services including planning, soliciting, negotiating, awarding, and administering simplified and negotiated procurement actions tailored to the functions of its assigned Bureau/Offices; (2) ensures compliance with federal laws and regulations, departmental and HRSA guidelines, policies and procedures; (3) provides professional, in-depth advice and consultation, customized to the Bureaus/Offices, regarding the appropriate contract vehicles and the various phases of the acquisition cycle; (4) conducts pre-award reviews of proposed contracts that exceed the requirements called for in the federal and departmental acquisition regulations in conjunction with the other contract services divisions; (5) plans and coordinates acquisition reviews of contracting activities within HRSA headquarters and the field components; and (6) responds to congressional inquiries and requests for acquisition information from other federal agencies and non-federal sources.

Division of Procurement Management (RB3D)

(1) Administers the training and certification programs in collaboration with HRSA's programs and offices for HRSA's Contracting Officer's Representatives, Federal Acquisitions Certification in Contracting acquisition professionals, and Program and Project Mangers; (2) administers and oversees HRSA's automated contracts systems and Federal mandated acquisition life cycle systems; (3) conducts and monitors the performance of the HRSA purchase card program for headquarters, satellite contracts office, and regional field offices; (4) develops and implements policies, procedures, and other internal controls in compliance with federal, departmental, and HRSA acquisition laws, regulations, policies, and/or procedures; (5) coordinates and responds to acquisition-related information requests including congressional inquiries, performance management reviews, and requests for information from the Government Accountability Office, Office of the Inspector General, and other departments and non-federal sources; (6) conducts independent reviews and analysis requested by external and internal customers; (7) provides contract audits and analysis related to HRSA's acquisition actions, including terminations, modifications, cost proposals, and invoices; (8) coordinates the OMB Circular No. A-123 efforts; (9) maintains the HRSA-wide contract portfolio for Indefinite Delivery/Indefinite Quantity Contracts and Blanket Purchase Agreements; (10) manages the close-out process of negotiated and simplified acquisition actions and other related actions; and (11) manages HRSA's reimbursable agreement process.

Office of Administrative Management (RB4)

The Office of Administrative Management provides HRSA-wide leadership, program direction, and coordination of all phases of administrative management. Specifically, the Office of Administrative Management: (1) Provides management expertise, staff advice, and support to the Chief Operating Officer in administrative program and policy formulation and execution; (2) provides administrative management services including property management, space planning, Contingency of Operations, safety, physical security, and general administrative services; (3) plans, directs, and coordinates organizational personnel security and badging activities; (4) coordinates the development of policy and regulations; (5) directs and coordinates HRSA's delegations of authority; and (6) serves as HRSA's Senior Travel Official.

Division of Executive Office Services (RB45)

The Division of Executive Office Services plans, directs, and coordinates administrative activities for the Office of Operations and the offices within the Office of the Administrator. Specifically, the Division of Executive Office Services: (1) Provides administrative management services including property and general administrative services; (2) ensures implementation of statutes, Executive Orders, and regulations related to official travel and transportation; (3) provides oversight for the travel management program involving use of travel management systems, passenger transportation, and travel charge cards; (4) manages, controls, and/or coordinates all matters relating to mail management; (5) manages and/or coordinates small purchases and procurements; and (6) coordinates human resources activities.

Division of Logistics and Support (RB46)

The Division of Logistics and Support plans, directs, and coordinates administrative activities for HRSA. Specifically, the Division of Logistics and Support: (1) Ensures implementation of statutes, Executive Orders, and regulations related to official travel, transportation, and relocation; (2) provides oversight for the HRSA travel management program involving use of travel management services/systems, passenger transportation, and travel charge cards; (3) manages, controls, and/or coordinates all matters relating to mail management within HRSA, including developing and implementing procedures for the receipt, delivery, collection, and dispatch of mail; (4) responsible for the HRSA time and attendance program; (5) manages and/or coordinates small purchases for Reasonable Accommodations; (6) ensures implementation of statutes, Executive Orders, and regulations related to official relocations of HRSA staff; (7) maintains overall responsibility for the HRSA Forms Management Program; (8) manages quality of work life programs; (9) provides planning, management, and oversight of all space management projects, move services, and furniture requirements; (10) provides analysis of office space requirements required in supporting decisions relating to the acquisition of commercial leases; and (11) manages the copier maintenance program.

Division of Security Services (RB47)

The Division of Security Services plans, directs, and coordinates safety, physical security, personnel security, Continuity of Operations and Emergency Management, parking, transit subsidy, and badging. Specifically, the Division of Security Services: (1) Ensures implementation of Executive Orders and regulations related to badging and personnel security related functions; (2) manages Transhare and parking coordination programs; (3) provides support and guidance on badging and personnel security issues; (4) approves foreign travel; (5) performs security briefings; (6) performs on-boarding and off-boarding duties; (7) ensures implementation of Executive Orders and regulations related to Safety and Security functions; (8) provides advice, counsel direction, and support to employees to fulfill HRSA's primary responsibility of providing a workplace free from recognizable safety and health concerns; (9) coordinates HRSA's continuity of operations and continuity of Government activities and maintains HRSA's Alternate Operating Facilities; (10) plans, directs, and coordinates HRSA's emergency operations activities; (11) serves as HRSA's liaison to HHS for foreign visitor requests; (12) provides training for the safety and security programs; (13) serves as HRSA's liaison to HHS and interagency partners on emergency preparedness matters; and (14) manages the HRSA Counter Intelligence and Insider Threat Program.

Office of Information Technology (RB5)

The Office of Information Technology is responsible for the organization, management, and administrative functions necessary to carry out responsibilities including: (1) Architecting, deploying, and supporting information technology (IT) infrastructure; (2) providing IT end user support; (3) developing enterprise and custom applications; (4) providing investment control, budget formulation and execution, policy development, strategic and tactical planning, and performance monitoring; (5) providing leadership in the development, review, and implementation of policies and procedures to promote improved IT management capabilities and best practices throughout HRSA; (6) coordinating IT workforce issues and works closely with the Office of Administrative Management on IT recruitment and training issues; and (7) overseeing HRSA IT security operations and management program.

The Office of the Director is also responsible for the IT business function including: (1) Providing oversight and management of IT budget formulation and execution; (2) serving as the focal point to the Office of Information Technology's contracts; (3) providing centralized procurement services for the Office of Information Technology; and (4) serving as the coordinator for the Office of Information Technology's Inter-agency and Service Level Agreements.

Division of Capital Planning, Architecture and Project Management (RB52)

The Division of Capital Planning, Architecture and Project Management coordinates HRSA's capital planning and investment control, Enterprise Architecture, and Enterprise Project Life Cycle processes including: (1) Providing direct planning development and support to assure that IT activities support and achieve agency business planning and mission objectives; (2) working to obtain required information and analyzing it as appropriate; coordinating control and evaluation of ongoing IT projects and investments, including support to the HRSA Enterprise Governance Board and the Technical and Business Review Board in conducting such reviews; (3) implementing, coordinating, and administering the records management program for HRSA; and (4) establishing HRSA records management policy, HRSA records schedules, and provides training in compliance with National Archives and Records Administration standards.

Division of Data and Information Services (RB55)

The Division of Data and Information Services develops and maintains an overall data and information management strategy for HRSA that is integrated with HHS and government-wide strategies, including: (1) Serving as HRSA's coordination center for data transparency and Open Government data initiatives; (2) providing for HRSA's data quality and ensuring that data required for HRSA's enterprise information requirements are captured in appropriate enterprise applications and that necessary data repositories are built and maintained; (3) evaluating and integrating emerging technologies to facilitate the translation of data and information from data repositories into electronic formats for internal and external dissemination; (4) identifying information needs across HRSA and developing approaches for meeting those needs using appropriate technologies, including development and maintenance of an enterprise reporting platform and a geospatial data warehouse; (5) enhancing and expanding the use and utility of HRSA's data by providing basic analytic and user support, developing and maintaining a range of information products for internal and external users, and demonstrating potential uses of information in supporting management decisions; (6) providing leadership and establishing policies to address legislative or regulatory requirements in its areas of responsibility; and (7) advising HRSA's Chief Information Officer on technical and analytical support that can be made available to other HRSA Bureaus/Offices.

Division of Enterprise Solutions and Applications Management (RB56)

The Division of Enterprise Solutions and Applications Management develops the HRSA grants program Electronic Handbook System (EHB) and other customized software applications to meet customer and mission needs. This includes: (1) Evaluating business processes, developing and integrating systems and functional and data architectures based on requirements; (2) developing, maintaining and supporting software applications including Commercial-Off-The-Shelf applications, and collaboration tools; (3) managing the systems development lifecycle by facilitating business process engineering efforts, systems requirements definition, and providing oversight for application change management control; and (4) providing enterprise application user training, and application customer support, and is responsible for end-to-end application building, deployment, and maintenance and data security assurance.

Division of Infrastructure Services (RB57)

The Division of Infrastructure Services provides leadership and consultation including the following functions: (1) Directs and manages the support and acquisition of HRSA's network infrastructure, servers, wireless communication devices, and software licenses; (2) manages the HRSA Data Center and the operation and maintenance of a complex, high-availability network infrastructure on which mission-critical applications are made available 24 hours per day, 7 days per week; (3) controls infrastructure configuration management, installations and upgrades, security perimeter protection, and system resource access; and (4) coordinates IT activities for Continuity of Operations Planning agency-wide including provisioning and maintaining IT infrastructure and hardware at designated Continuity of Operations Planning locations to support emergency and Continuity of Operations Planning requirements.

Division of End User Support (RB58)

The Division of End User Support provides leadership, consultation, training, and management services for HRSA's enterprise user computing environment. Specifically, the Division of End User Support: (1) Directs and manages the support and acquisition of HRSA's desktop hardware, mobile devices, telecommunication, and cabling; (2) maintains workstation hardware and software configuration management controls; (3) accounts for property life cycle management, and tracks HRSA-wide IT capital equipment; (4) oversees the delivery of desktop services to staff in HRSA Regional Offices; and (5) provides telecommunications accountability, oversight, and support.

Office of Human Resources (RB6)

(1) Provides advice and guidance on all aspects of the HRSA human resources (HR) management program; (2) provides the full range of HR operations including employment, staffing and recruitment, compensation, classification, executive resources, labor and employee relations, employee benefits, and retirement; (3) develops and coordinates the implementation of HR policies and procedures for HRSA's human resources activities; (4) monitors, evaluates, and reports on the effectiveness, efficiency, and compliance with HR laws, rules, and regulations; (5) provides advice and guidance for the establishment or modification of organization structures; (6) manages the HRSA's Ethics Program; (7) administers HRSA's performance management programs; (8) manages the incentive and honor awards programs; (9) represents HRSA in HR matters both within and outside of the Department; (10) oversees the Public Health Service Commissioned Corps liaison activities including the day-to-day operations of workforce management; (11) monitors HR accountability; (12) manages HR information technology; (13) directs, coordinates, and conducts workforce development activities for HRSA; and (14) conducts HRSA-wide workforce analysis studies and surveys.

Division of HR Operations (RB61)

The Division of HR Operations is responsible for providing advice, guidance, and advisory services on HR activities. (1) Provides the full range of HR operations activities including employment, staffing and recruitment, compensation, classification, position management, and personnel action processing; (2) develops and implements HR policies and procedures for classification, and staffing and recruitment; (3) provides expert guidance to managers on the recruitment process; (4) ensures HR staff is meeting customer service and performance expectations; and (5) manages on-boarding and retention procedures for student, intern, and graduate programs.

Division of Workforce Relations (RB62)

The Division of Workforce Relations is responsible for providing advice, guidance, and counsel to agency employees and managers. (1) Represents HRSA on HR matters before the Department, the Office of the General Counsel, the Office of Government Ethics, the Office of Personnel Management, the unions, and the Federal Labor Relations Authority; (2) provides resources to managers and employees, such as labor relations, employee relations, performance management, employee benefits, and retirement; (3) manages the unemployment and voluntary leave transfer programs; (4) manages the HRSA-wide ethics program; (5) administers the performance management programs; (6) manages commissioned corps liaison activities; (7) manages HRSA's Telework Program; (8) ensures program integrity and accountability, including conducting program audits, reviews and/or self-assessments; and (9) provides advice, guidance, and counsel to HRSA employees and managers for assigned programs.

Division of Human Resources Policy and Technology (RB63)

The Division of HR Policy and Technology: (1) Develops and implements HRSA-wide HR policies; (2) establishes standard operating procedures for the HR office; (3) guides the identification, review, and implementation of HR information technology that enables workforce empowerment and supports HR in achieving its ability to execute a variety of duties efficiently and effectively; (4) manages an accountability program that includes preparation and responses to audits and reviews; (5) manages the incentive and honor awards programs; (6) manages the HR helpdesk by providing timely, reliable, and accurate HR-related information to customers and other stakeholders; (7) manages the executive resources functions to include recruitment, staffing, and performance management; and (8) works on HR projects and initiatives.

Division of Workforce Development (RB64)

(1) Establishes long-term workforce skills and capacity building strategies; (2) plans, directs, manages, and evaluates HRSA-wide learning programs, technical, career growth and leadership development programs; (3) develops, designs, implements, and evaluates a comprehensive strategic workforce leadership development and career management program for all occupational series throughout HRSA; (4) provides technical assistance and recommendations in creating high-performance in organizations, career management, and employee learning and development; (5) maximizes economies of scale through systematic planning and evaluation of agency-wide learning and leadership development initiatives; (6) identifies and assesses relevant scanning/benchmarking on workforce and career development processes, services and products; (7) establishes policies governing major learning initiatives and new learning activities, and works collaboratively with other components of HRSA in planning, developing, implementing, and evaluating policies related to professional development initiatives; (8) plans, directs, and manages HRSA-wide skills-building and service programs for fellows and interns; (9) conducts agency-wide workforce analysis studies and surveys; (10) develops comprehensive workforce capacity-building strategies that meet the requirements of the Office of Personnel Management and HHS, programmatic needs of HRSA, and the governance and management needs of HRSA leadership; and (11) evaluates workforce capacity-building strategies to ensure that HRSA is able to retain a cadre of talented and ready public health professionals, reduce risks associated with turnover in mission critical positions and create a match between future needs and the aspirations of individuals.

Section RB-30, Delegations of Authority

All delegations of authority and re-delegations of authority made to officials and employees of affected organizational components will continue in them or their successors pending further redelegation, if allowed, provided they are consistent with this reorganization.

This reorganization is effective upon date of signature.

(Authority: 44 U.S.C. 3101)

Dated: September 13, 2019.
Thomas J. Engels,
Acting Administrator.

[FR Doc. 2019-20407 Filed 9-19-19; 8:45 am]

BILLING CODE 4165-15-P